DEPARTMENT OF TRANSPORTATION

Federal Railroad Administration

[Docket Number FRA-2017-0107]

Petition for Waiver of Compliance

Under part 211 of Title 49 Code of Federal Regulations (CFR), this provides the public notice that on October 6, 2017, the Vermilion Valley Railroad (VVRR) petitioned the Federal Railroad Administration (FRA) for a waiver of compliance from certain provisions of the Federal railroad safety regulations contained at 49 CFR part 223, Safety Glazing Standards. FRA assigned the petition Docket Number FRA-2017-0107.

Specifically, VVRR has petitioned FRA for a waiver of compliance from 49 CFR 223.11, Requirements for existing locomotives, for two of its locomotives, IBCX 4210 and IBCX 4214. Both of these units are EMD F 9 units and were built in 1956 for the Erie Mining Company in Minnesota. These units have been used exclusively in private iron ore operations and were never required to be FRA compliant. They were saved from scrapping in 2015 by the Indiana Boxcar Corporation, which is the parent company of VVRR.

VVRR operates in a mostly rural area from Olin, IN to an interchange point with CSX in Danville, IL, with a 10 miles-per-hour maximum operating speed. VVRR states that the glass on the two locomotives is in good condition and retrofitting of the locomotives would be costly. In addition, VVRR states that retrofitting of the locomotives with compliant glazing would compromise the historical appearance by eliminating the “roll down” side windows and opening vent windows. VVRR further states that while the two units will be part of its freight locomotive fleet, their use will be sporadic and the units will primarily be used for photographs and special occasions.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 18, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on October 26, 2017.
John K. Alexy,
Director, Office of Safety Analysis.

[FR Doc. 2017-23846 Filed 11-1-17; 8:45 am]

BILLING CODE 4910-06-P